DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Cooperative Progress Report on the Incidental Catch of Pacific Halibut.

OMB Control Number: 0648-0697.

Form Number(s): None.

Type of Request: Regular (revision of a currently approved information collection).

Number of Respondents: 6.

Average Hours per Response: Bycatch Avoidance Progress report, 40 hours; Prohibited Species Catch; Amendment 80 Halibut Prohibited Species Catch Management Plan, 12 hours.

Burden Hours: 264.

Needs and Uses: This request is for revision of a currently approved information collection.

The purpose of this collection is for each sector in the Bering Sea and Aleutian Islands Management Area (BSAI) groundfish fisheries to inform the North Pacific Fisheries Management Council (Council) of their progress on voluntary, non-regulatory methods they are using within their fishery cooperatives to reduce halibut mortality and to report the effectiveness of those actions in absolute reductions in halibut mortality.

At its June 2015 meeting, the Council requested that, in addition to providing the BSAI Halibut Prohibited Species Catch (PSC) Progress Report, Amendment 80 cooperatives provide their 2016 Halibut PSC Management Plans at the December 2015 Council meeting. Since 2011, all vessels and companies participating in the Amendment 80 sector have been affiliated with one of two Amendment 80 cooperatives, the Alaska Seafood Cooperative or the Alaska Groundfish Cooperative. The plans should be designed not just to accommodate the revised hard caps, but to bring savings to levels below the hard cap.

Affected Public: Business or other for-profit organizations.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 7, 2015.
Sarah Brabson,
NOAA PRA Clearance Officer.

[FR Doc. 2015-19805 Filed 8-11-15; 8:45 am]

BILLING CODE 3510-22-P